DEPARTMENT OF DEFENSE

Department of Army; Corps of Engineers

Intent To Prepare a Joint Environmental Impact Statement/Environmental Impact Report for the Marina del Rey and Ballona Creek Sediment Control Management Plan Feasibility Study, Marina del Rey, Los Angeles County, CA

AGENCY: Department of the Army, U.S. Army Corps of Engineers, DoD.

ACTION: Notice of intent.

SUMMARY: The U.S. Army Corps of Engineers (Corps) and the County of Los Angeles propose to prepare a sediment control management plan to reduce the sedimentation and contamination within Marina del Rey's navigation channels that result from Ballona Creek discharges. The Ballona Creek sediment control management plan is intended to act as a long-term solution to Marina del Rey's contaminated dredged material problem.

FOR FURTHER INFORMATION CONTACT: Questions regarding the scoping process or preparation of the EIS/EIR may be directed to Mr. Paul Rose, Chief, Environmental Resources Branch, U.S. Army Corps of Engineers, P.O. Box 532711, Los Angeles, CA, 90053-2325, (213) 452-3840.

SUPPLEMENTARY INFORMATION: 1. Proposed Action: Measures to control sediment discharges from Ballona Creek are needed because the Marina del Rey entrance channel suffers from sediment accretion, which inhibits navigation and makes periodic maintenance dredging necessary. The deposited sediment is contaminated with pollutants that originate from the Ballona Creek watershed. The elevated contaminant levels in entrance channel sediments make the disposal of dredge sediments problematic and expensive. The Corps has found it difficult to dredge the south entrance channel because of a lack of suitable disposal sites for the contaminated material. Because of the difficulty of properly maintaining the entrance channel, navigation safety may be threatened. Furthermore, resuspension of these sediments during dredging operations raises concerns of environmental impacts.

Control of contaminated sediments from Ballona Creek would help alleviate the problem of contaminated sediment dredging in the Marina del Rey Harbor entrance channel. A substantial reduction or elimination of the need to dispose of contaminated sediments would provide such benefits as improved water quality, decrease in maintenance dredging costs, and increased beach nourishment from the disposal of clean dredged sediments.

2. Alternatives: Alternatives that may be considered include selection of various sediment control measures including in-steam sediment basins, construction of a jetty extension, a combined in-steam sediment basin and jetty extension, and no-project.

3. Scoping Process; The Corps and the County of Los Angeles are preparing a joint environmental Impact Statement/Environmental Impact Report (EIS/EIR) to address potential impacts associated with the proposed project. The Corps is the Lead Federal Agency for compliance with National Environmental Policy Act (NEPA) for the project, and the County of Los Angeles is the Lead State Agency for compliance with the California Environmental Quality Act (CEQA) for the non-Federal aspects of the project. The Draft EIS/EIR (DEIS/EIR) document will incorporate public concerns in the analysis of impacts associated with the Proposed Action and associated project alternatives. The DEIS/EIR will be sent out for a 45-day public review period, during which time both written and verbal comments will be solicited on the adequacy of the document. The Final EIS/EIR (FEIS/EIR) will address the comments received on the DEIS/EIR during public review, and will be furnished to all who commented on the DEIS.EIR, and is made available to anyone that requests a copy during the 30-day public comment period. The final step involves, for the federal EIS, preparing a Record of Decision (ROD) and, for the state EIR, certifying the EIR and adopting a Mitigation Monitoring and Reporting Plan. The ROD is a concise summary of the decisions made by the Corps from among the alternatives presented in the FEIS/EIR.

The ROD can be published immediately after the FEIS public comment period ends. A certified EIR indicates that the environmental document adequately assesses the environmental impacts of the proposed project with the respect to CEQA. A formal scoping meeting to solicit public comment and concerns on the proposed action and alternatives will be held on June 4, 2002, at 10:00 A.M., in the Burton Chace Community Center, 13650 Mindanao Way, Marina del Rey, California.

Luz D. Ortiz,
Army Federal Register Liaison Office.

[FR Doc. 02-13688 Filed 5-30-02; 8:45 am]

BILLING CODE 3710-KF-M